DEPARTMENT OF COMMERCE

International Trade Administration

[A-570-979]

Crystalline Silicon Photovoltaic Cells, Whether or Not Assembled Into Modules, From the People's Republic of China: Notice of Correction to the Final Results of the 2016-2017 Antidumping Duty Administrative Review

AGENCY: Enforcement and Compliance, International Trade Administration, Department of Commerce.

SUMMARY: The Department of Commerce (Commerce) is correcting its notice of the final results of the fifth administrative review of the antidumping duty (AD) order on crystalline silicon photovoltaic cells, whether or not assembled into modules (solar cells), from the People's Republic of China (China). The period of review (POR) is December 1, 2016 through November 30, 2017.

DATES: Applicable November 15, 2019.

FOR FURTHER INFORMATION CONTACT: Jeff Pedersen, AD/CVD Operations, Office IV, Enforcement & Compliance, International Trade Administration, Department of Commerce, 1401 Constitution Avenue NW, Washington, DC 20230; telephone: (202) 482-2769.

SUPPLEMENTARY INFORMATION: On July 30, 2019, Commerce published the final results of the 2016-2017 administrative review of the AD order on solar cells from China in the Federal Register.¹ In the Final Results, we incorrectly included Zhejiang ERA Solar Technology Co., Ltd. (Zhejiang ERA) in the list of companies we were continuing to find had made no shipments of subject merchandise to the United States during the POR. However, in the Preliminary Results we stated the following:

¹ See Crystalline Silicon Photovoltaic Cells, Whether or Not Assembled Into Modules, from the People's Republic of China: Final Results of Antidumping Duty Administrative Review and Final Determination of No Shipments; 2016-2017, 84 FR 36886 (July 30, 2019) (Final Results).

We found that . . . Zhejiang ERA Solar Technology Co., Ltd., which claimed no exports, sales or entries of subject merchandise during the POR did, in fact, sell subject merchandise to the United States during the POR. {This company did not file} a separate rate application or certification and thus {it has} not established {its} entitlement to a separate rate in this review.²

² See Crystalline Silicon Photovoltaic Cells, Whether or Not Assembled Into Modules, from the People's Republic of China: Preliminary Results of Antidumping Duty Administrative Review and Preliminary Determination of No Shipments; 2016-2017, 83 FR 67222, 67223 (December 28, 2018) (Preliminary Results).

We based this preliminary finding on record evidence that Zhejiang ERA sold subject merchandise to the United States during the POR.³ We provided Zhejiang ERA an opportunity to discuss the evidence at the time that we placed it on the record.⁴ While Zhejiang ERA Solar Technology Co., Ltd. commented on the information, it provided no evidence contradicting the information that it had a shipment.⁵ We also provided Zhejiang ERA with an opportunity to submit a case brief concerning our Preliminary Results, but Zhejiang ERA did not submit a case brief. Commerce did not intend to change our preliminary decision with respect to Zhejiang ERA's no shipment claim or our preliminary finding that this company was not eligible for a separate rate. We inadvertently erred when we included Zhejiang ERA in the list of companies that we found did not ship subject merchandise to the United States during the POR. Therefore, we are correcting the Final Results by clarifying that we have adopted our Preliminary Results with respect to Zhejiang ERA in the Final Results. Specifically, we are continuing to find that Zhejiang ERA did in fact have shipments of subject merchandise to the United States during the POR and that Zhejiang ERA is not eligible for separate rate status, and thus is part of the China-wide entity. As we noted in the Final Results, the China-wide entity rate is 238.95 percent.⁶

³ Id.

⁴ See Memorandum, “Crystalline Silicon Photovoltaic Cells, Whether or Not Assembled Into Modules, from the People's Republic of China: Release of U.S. Customs and Border Protection Information Relating to No Shipment Claims Made in the 2014-2015 {sic} Administrative Review of Crystalline Silicon Photovoltaic Cells from the People's Republic of China,” dated November 21, 2018.

⁵ See Zhejiang ERA's Letter, “Crystalline Silicon Photovoltaic Cells, Whether or Not Assembled Into Modules from the People's Republic of China, Case No. A-570-979: Comments on Release of U.S. Customs and Border Protection Information Relating to No Shipment Claims,” dated November 28, 2018.

⁶ See Final Results, 84 FR at 36888.

This correction to the final results and notice are issued and published in accordance with sections 751(a) and 777(i) of the Tariff Act of 1930, as amended.

Dated: November 1, 2019.
Jeffrey I. Kessler,
Assistant Secretary for Enforcement and Compliance.

[FR Doc. 2019-24826 Filed 11-14-19; 8:45 am]

BILLING CODE 3510-DS-P